DEPARTMENT OF TRANSPORTATION

Federal Aviation Administration

14 CFR Part 39

[Docket No. FAA-2025-1102; Project Identifier MCAI-2024-00183-R]

RIN 2120-AA64

Airworthiness Directives; Hélicoptères Guimbal Helicopters

AGENCY: Federal Aviation Administration (FAA), DOT.

ACTION: Notice of proposed rulemaking (NPRM).

SUMMARY: The FAA proposes to adopt a new airworthiness directive (AD) for all Hélicoptères Guimbal (HG) Model Cabri G2 helicopters. This proposed AD was prompted by reports of cracked main rotor swashplates (swashplates). This proposed AD would require repetitively inspecting certain swashplates for cracks and, depending on the results, removing and replacing each cracked swashplate. This proposed AD would also prohibit installing an affected swashplate unless it has passed the proposed inspection requirements. The FAA is proposing this AD to address the unsafe condition on these products.

DATES: The FAA must receive comments on this NPRM by August 4, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-1102; or in person at Docket Operations between 9 a.m. and 5 p.m., Monday through Friday, except Federal holidays. The AD docket contains this NPRM, the mandatory continuing airworthiness information (MCAI), any comments received, and other information. The street address for Docket Operations is listed above.

Material Incorporated by Reference:

• For Guimbal material identified in this proposed AD, contact Hélicoptères Guimbal, 1070, rue du Lieutenant Parayre, Aérodrome d'Aix-en-Provence, 13290 Les Milles, France; phone: 33-04-42-39-10-88; email: support@guimbal.com; or at guimbal.com.

• You may view this material at the FAA, Office of the Regional Counsel, Southwest Region, 10101 Hillwood Parkway, Room 6N-321, Fort Worth, TX 76177. For information on the availability of this material at the FAA, call (817) 222-5110.

FOR FURTHER INFORMATION CONTACT: George Weir, Aviation Safety Engineer, FAA, 1600 Stewart Avenue, Suite 410, Westbury, NY 11590; phone: (817) 222-4045; email: george.a.weir@faa.gov.

SUPPLEMENTARY INFORMATION:

Comments Invited

The FAA invites you to send any written relevant data, views, or arguments about this proposal. Send your comments to an address listed under the ADDRESSES section. Include “Docket No. FAA-2025-1102; Project Identifier MCAI-2024-00183-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to George Weir, Aviation Safety Engineer, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued EASA AD 2024-0071, dated March 14, 2024 (EASA AD 2024-0071) (also referred to as “the MCAI”), to correct an unsafe condition on HG Model Cabri G2 helicopters, all serial numbers. The MCAI states that occurrences were reported where, during maintenance, cracks were found on the rotating and non-rotating part of the swashplates of two HG Model Cabri G2 helicopters. HG concluded that the cracks were likely caused by aging and corrosion.

The MCAI states that this condition, if not detected and corrected, could lead to failure of the swashplate, which could result in loss of control of the helicopter. The MCAI requires inspecting each swashplate and, if there are any cracks, replacing each cracked swashplate before the next flight. The MCAI allows installing an affected swashplate on a helicopter provided that, before installation, it is inspected and no cracks are found.

You may examine the MCAI in the AD docket at regulations.gov under Docket No. FAA-2025-1102.

Material Incorporated by Reference Under 1 CFR Part 51

The FAA reviewed Guimbal Mandatory Service Bulletin SB 24-001, Revision C, dated March 20, 2024 (Guimbal SB 24-001 C), which specifies procedures for performing repetitive inspections of the six arms from both the rotating and non-rotating swashplate part number G41-00-000 for cracks, replacing any cracked swashplate, and contacting HG support. If there is doubt about the existence of a crack or if there is paint damage or peeling, Guimbal SB 24-001 C specifies removing the paint and further inspecting for cracks. If no crack is found, Guimbal SB 24-001 C specifies touching up the paint in areas where paint was removed before approving the helicopter for return to service.

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI and material referenced above. The FAA is issuing this NPRM after determining that the unsafe condition described previously is likely to exist or develop on other products of the same type design.

Proposed AD Requirements in This NPRM

This proposed AD would require removing the paint on each swashplate and performing repetitive visual inspections of the six arms of the rotating and non-rotating swashplates for a crack. Depending on the results, this proposed AD would require removing any cracked swashplate from service and replacing the swashplate with an airworthy part, or repainting the swashplate. This proposed AD would also prohibit installing an affected swashplate unless the part is inspected prior to installation and thereafter as identified in the proposed AD.

Differences Between This Proposed AD and the MCAI

The material referenced in the MCAI specifies removing paint if there is doubt regarding if there is a crack or if there is paint damage, and this proposed AD requires removing the paint before performing each inspection.

The material referenced in the MCAI specifies contacting HG support after replacing the swashplate, whereas this proposed AD would not require that action.

Costs of Compliance

The FAA estimates that this AD, if adopted as proposed, would affect 59 helicopters of U.S. registry. Labor rates are estimated at $85 per hour. The FAA estimates the following costs to comply with this proposed AD.

Inspecting a swashplate would take .25 work-hour for an estimated cost of $22 per helicopter and $1,298 for the U.S. fleet, per inspection cycle. Removing the paint and repainting the swashplate would take .5 work-hour for an estimated cost of $43 per helicopter and $2,537 for the U.S. fleet, per inspection cycle. If required, replacing a swashplate would take 6 work-hours and parts would cost about $7,066 for an estimated cost of $7,576 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Hélicoptères Guimbal: Docket No. FAA-2025-1102; Project Identifier MCAI-2024-00183-R.

(a) Comments Due Date

The FAA must receive comments on this airworthiness directive (AD) by August 4, 2025.

(b) Affected ADs

None.

(c) Applicability

This AD applies to Hélicoptères Guimbal Model Cabri G2 helicopters, certificated in any category, with a main rotor swashplate part number (P/N) G41-00-000 installed.

(d) Subject

Joint Aircraft System Component (JASC) Code 6230, Main Rotor Mast/Swashplate.

(e) Unsafe Condition

This AD was prompted by reports of cracks on the rotating and non-rotating parts of the swashplates. The FAA is issuing this AD to detect and correct a cracked swashplate. The unsafe condition, if not addressed, could lead to failure of a cracked swashplate, which could result in loss of control of the helicopter.

(f) Compliance

Comply with this AD within the compliance times specified, unless already done.

(g) Required Actions

(1) Within the compliance time listed in table 1 to paragraph (g)(1) of this AD and thereafter at intervals not to exceed 60 hours time in service (TIS) or 14 months, whichever occurs first, remove the paint on each swashplate using P600 GRIT or equivalent abrasive and visually inspect with a flashlight all six arms of both the rotating and non-rotating swashplates for a crack, paying particular attention to each face of each clevis arm as shown in the picture under paragraph (a) of Guimbal Mandatory Service Bulletin SB 24-001, Revision C, dated March 20, 2024 (Guimbal SB 24-001 C).

Table 1 to Paragraph (g)(1)
Swashplate serial No. | Initial compliance time
801 through 1077 inclusive | Within 30 hours TIS or 4 months, whichever occurs first, after the effective date of this AD.
1078 and higher | Within 60 hours TIS or 6 months, whichever occurs first, after the effective date of this AD.

(2) If a crack is found on a swashplate during any inspection required by paragraph (g)(1) of this AD, before further flight, remove the cracked swashplate from service and install an airworthy swashplate.

(3) If no crack is found on any swashplate during an inspection required by paragraph (g)(1) of this AD, retouch all areas of each swashplate where paint was removed by following paragraph (d) of Guimbal SB 24-001 C.

(h) Parts Installation Limitation

As of the effective date of this AD, do not install a swashplate having P/N G41-00-000 on any helicopter, unless it has been inspected in accordance with paragraph (g)(1) of this AD.

(i) Credit for Previous Actions

You may take credit for any inspection and associated actions required by paragraph (g) of this AD if you performed that inspection before the effective date of this AD using Guimbal Mandatory Service Bulletin SB 24-001, Revision A, dated February 7, 2024, or Guimbal Mandatory Service Bulletin SB 24-001, Revision B, dated March 13, 2024.

(j) Special Flight Permits

Special flight permits are prohibited.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l)(1) of this AD and email to: AMOC@faa.gov.

(2) Before using any approved AMOC, notify your appropriate principal inspector, or lacking a principal inspector, the manager of the local flight standards district office/certificate holding district office.

(l) Additional Information

(1) For more information about this AD, contact George Weir, Aviation Safety Engineer, FAA, 1600 Stewart Avenue, Suite 410, Westbury, NY 11590; phone: (817) 222-4045; email: george.a.weir@faa.gov.

(2) Guimbal material identified in this AD that is not incorporated by reference is available at the addresses specified in paragraph (m)(3) of this AD.

(m) Material Incorporated by Reference

(1) The Director of the Federal Register approved the incorporation by reference of the material listed in this paragraph under 5 U.S.C. 552(a) and 1 CFR part 51.

(2) You must use this material as applicable to do the actions required by this AD, unless the AD specifies otherwise.

(i) Guimbal Mandatory Service Bulletin SB 24-001, Revision C, dated March 20, 2024.

(ii) [Reserved]

(3) For Guimbal material identified in this AD, contact Hélicoptères Guimbal, 1070, rue du Lieutenant Parayre, Aérodrome d'Aix-en-Provence, 13290 Les Milles, France; phone: 33-04-42-39-10-88; email: support@guimbal.com; or at guimbal.com.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on June 13, 2025.
Christopher R. Parker,
Acting Deputy Director, Compliance & Airworthiness Division, Aircraft Certification Service.

[FR Doc. 2025-11212 Filed 6-17-25; 8:45 am]

BILLING CODE 4910-13-P